FEDERAL COMMUNICATIONS COMMISSION

Federal Advisory Committee Act; Communications Security, Reliability, and Interoperability Council

AGENCY: Federal Communications Commission.

ACTION: Notice.

SUMMARY: The Federal Communications Commission (Commission) hereby announces that the charter of the Communications Security, Reliability, and Interoperability Council (hereinafter CSRIC) has been renewed pursuant to the Federal Advisory Committee Act (FACA).

FOR FURTHER INFORMATION CONTACT: Suzon Cameron, Designated Federal Officer, Federal Communications Commission, Public Safety and Homeland Security Bureau, (202) 418-1916 or email: suzon.cameron@fcc.gov, or Kurian Jacob, Deputy Designated Federal Officer, Federal Communications Commission, Public Safety and Homeland Security Bureau, (202) 418-2040 or email: kurian.jacob@fcc.gov.

SUPPLEMENTARY INFORMATION: On February 28, 2019, the General Services Administration approved renewal of the charter of the CSRIC pursuant to provisions of the FACA. The Commission intends to renew the charter on or before March 15, 2019 and provide the CSRIC with authorization to operate for two years from the effective date.

The CSRIC provides recommendations to the FCC regarding ways the FCC can strive for security, reliability, and interoperability of communications systems. CSRIC's recommendations focus on a range of public safety and homeland security-related communications matters, including: (1) The reliability of communications systems and infrastructure; (2) 911, Enhanced 911 (E911), and Next Generation 911 (NG911); (3) emergency alerting; and (4) national security/emergency preparedness (NS/EP) communications, including law enforcement access to communications.

During the CSRIC's charter, it is anticipated that the CSRIC will meet in Washington, DC for quarterly, one-day meetings. The meeting date will be announced in a Public Notice issued and published in the Federal Register at least fifteen (15) days prior to the first meeting date.

Federal Communications Commission.
Marlene Dortch,
Secretary.

[FR Doc. 2019-04246 Filed 3-7-19; 8:45 am]

BILLING CODE 6712-01-P